DEPARTMENT OF DEFENSE

Office of the Secretary

Defense Science Board

AGENCY: Department of Defense.

ACTION: Notice of advisory committee meeting cancellation.

SUMMARY: The Defense Science Board (DSB) Task Force on VTOL/STOL scheduled for July 20-21, 2006, was canceled.

FOR FURTHER INFORMATION CONTACT: LCDR Clifton Phillips, USN, Defense Science Board, 3140 Defense Pentagon, Room 3C553, Washington, DC 20301-3140, via e-mail at Clifton.phillips@osd.mil, or via phone at (703) 571-0083.

C.R. Choate,
Alternate OSD Federal Register Liaison Officer, Department of Defense.

[FR Doc. 06-6437 Filed 7-24-06; 8:45 am]

BILLING CODE 5001-06-M